DEPARTMENT OF COMMERCE

International Trade Administration

[A-427-801, A-428-801, A-475-801, A-588-804, A-559-801]

Ball Bearings and Parts Thereof From France, Germany, Italy, Japan, and Singapore: Final Results of Antidumping Duty Administrative Reviews, Rescission of Administrative Review in Part, and Determination Not To Revoke Order in Part

AGENCY: Import Administration, International Trade Administration, Department of Commerce.

ACTION: Notice of final results of antidumping duty administrative reviews, rescission of administrative review in part, and determination not to revoke order in part.

SUMMARY: On February 7, 2003, the Department of Commerce published the preliminary results of the administrative reviews of the antidumping duty orders on ball bearings and parts thereof from France, Germany, Italy, and Singapore. On March 10, 2003, the Department of Commerce published the preliminary result of the administrative review of the antidumping duty order on ball bearings from Japan. The reviews cover 14 manufacturers/exporters. The period of review is May 1, 2001, through April 30, 2002.

Based on our analysis of the comments received, we have made changes, including corrections of certain programming and other clerical errors, in the margin calculations. Therefore, the final results differ from the preliminary results. The final weighted-average dumping margins for the reviewed firms are listed below in the section entitled “Final Results of the Reviews.”

EFFECTIVE DATE: June 16, 2003.

FOR FURTHER INFORMATION: Please contact the appropriate case analysts for the various respondent firms, as listed below, at Import Administration, International Trade Administration, U.S. Department of Commerce, Washington, DC 20230; telephone: (202) 482-4733.

France

Minoo Hatten (SNR Roulements), Dunyako Ahmadu (SKF), Mark Ross, or Richard Rimlinger.

Germany

Dunyako Ahmadu (FAG), Sochieta Moth (SKF), Catherine Cartsos (Paul Mueller), Jeffrey Frank (Torrington), Mark Ross, or Richard Rimlinger.

Italy

Fred Aziz (FAG), Janis Kalnins (SKF), Mark Ross, or Richard Rimlinger.

Japan

Thomas Schauer (Koyo), Lyn Johnson (NTN), David Dirstine (NPBS), Dmitry Vladimirov (Sapporo), Kristin Case (NSK), Mark Ross, or Richard Rimlinger.

Singapore

Yang Jin Chun (NMB/Pelmec) or Richard Rimlinger.

SUPPLEMENTARY INFORMATION:

Background

On February 7, 2003, the Department of Commerce (the Department) published the preliminary results of the administrative reviews of the antidumping duty orders on ball bearings and parts thereof (ball bearings) from France, Germany, Italy, and Singapore (68 FR 6404) (Preliminary Results for France, et al). On March 10, 2003, the Department published the preliminary results of the administrative review of the antidumping duty order on ball bearings from Japan (68 FR 11357) (Preliminary Results for Japan). The period of review (POR) is May 1, 2001, through April 30, 2002. We invited interested parties to comment on the preliminary results. At the request of certain parties, we held hearings for Germany-specific issues on April 2, 2003, and for Japan-specific issues on April 22, 2003. The Department has conducted these administrative reviews in accordance with section 751 of the Tariff Act of 1930, as amended (the Act).

Scope of Reviews

The products covered by these reviews are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

The size or precision grade of a bearing does not influence whether the bearing is covered by the order. For a listing of scope determinations which pertain to the orders, see the Scope Determinations Memorandum (Scope Memorandum) from the Antifriction Bearings Team to Laurie Parkhill, dated April 1, 2002, and hereby adopted by this notice. The Scope Memorandum is on file in the Central Records Unit (CRU), Main Commerce Building, Room B-099, in the General Issues record (A-100-001) for the 01/02 reviews.

Although the HTSUS item numbers above are provided for convenience and customs purposes, the written descriptions of the scope of these proceedings remain dispositive.

Analysis of the Comments Received

All issues raised in the case and rebuttal briefs by parties to these concurrent administrative reviews of the orders on ball bearings are addressed in the “Issues and Decision Memorandum” (Decision Memo) from Laurie Parkhill, Acting Deputy Assistant Secretary, to Jeffrey May, Acting Assistant Secretary, dated June 9, 2003, which is hereby adopted by this notice. A list of the issues which parties have raised and to which we have responded, all of which are in the Decision Memo, is attached to this notice as an Appendix. This Decision Memo, which is a public document, is on file in the Central Records Unit (CRU), Main Commerce Building, Room B-099, and is accessible on the Web at http://ia.ita.doc.gov/frn/index.html. The paper copy and electronic version of the Decision Memo are identical in content.

Sales Below Cost in the Home Market

The Department disregarded home-market sales that failed the cost-of-production test for the following firms for these final results of reviews:

Country | Company
France | SNR Roulements and SKF.
Germany | FAG, Paul Mueller, and SKF.
Italy | FAG and SKF.
Japan | Koyo, NTN, NPBS, and NSK.
Singapore | NMB/Pelmec.

Use of Facts Available

Section 776(a)(2) of the Act provides that, if an interested party withholds information that has been requested by the Department, fails to provide such information by the submission due date or in the form and manner requested by the Department, significantly impedes a proceeding under the Act, or provides such information but the information cannot be verified, the Department shall, subject to sections 782(d) and (e) of the Act, use facts otherwise available in reaching the applicable determination.

Pursuant to section 782(e) of the Act, the Department shall not decline to consider submitted information that is necessary to the determination but not meeting all of the established requirements only if the information is submitted by the established deadline, the information can be verified, the information is not so incomplete that it cannot serve as a reliable basis for reaching the applicable determination, the interested party has demonstrated that it acted to the best of its ability in providing the information and meeting the established requirements with respect to the information, and the information can be used without undue difficulties.

Koyo's affiliates knew or had reason to know that their sales of ball bearings were destined for the United States, but Koyo did not report these sales in its original questionnaire response. Moreover, in a supplemental questionnaire dated January 31, 2003, we asked Koyo to “explain whether any of your affiliated resellers * * * sold ball bearings to distributors but had knowledge at the time of sale that the bearings were destined to the United States,” and, if so, to “report all such sales as U.S. sales and all expenses associated with such sales at this time.” Koyo's response was that neither Koyo nor its affiliates knew or had reason to know at the time of sale that these ball bearings were destined to the United States, but the administrative record demonstrates otherwise. Therefore, we find that Koyo significantly impeded this proceeding by not reporting these sales and associated expenses as we requested. Because of Koyo's non-response to our inquiry, we do not have the data we need to calculate a margin on these U.S. sales. Therefore, we find it appropriate to rely on the facts available in order to establish a duty margin for the sales in question. Please see the Koyo Final Results Analysis Memorandum dated June 6, 2003 (Koyo Final Memo), for a complete description of the facts of this case. (Section 777(b)(1)(A) of the Act prohibits us from disclosing the proprietary business information demonstrating that the affiliated resellers knew or had reason to know at the time of sale that these ball bearings were destined to the United States in this notice.)

In addition, section 776(b) of the Act provides that, if the Department finds that an interested party “has failed to cooperate by not acting to the best of its ability to comply with a request for information,” the Department may use information that is adverse to the interests of that party as facts otherwise available. Because Koyo and its affiliates knew or had reason to know that the ultimate destination of their sales of ball bearings was the United States but did not report these sales in the response to our supplemental questionnaire, we have determined that Koyo has not acted to the best of its ability in reporting these sales. Therefore, we find it appropriate to use an adverse inference in establishing the antidumping margin applicable for these sales. As adverse facts available, we calculated the margins for these sales using a rate of 73.55 percent, which is the margin we calculated for Koyo in the less-than-fair-value investigation (see Antidumping Duty Orders: Ball Bearings, Cylindrical Roller Bearings, and Spherical Plain Bearings, and Parts Thereof from Japan, 54 FR 20904-20905 (May 15, 1989)) and which we were able to corroborate. Because section 777(b)(1)(A) of the Act prohibits us from discussing the business proprietary information we used in our corroboration of this rate in this notice, please see the Koyo Final Memo for a complete description of our corroboration methodology.

We also find that SKF France did not provide information we requested at verification, thus significantly impeding this proceeding we requested in our January 24, 2003, verification outline, which we issued to SKF France ten days prior to the verification, that SKF France “have at hand all company records and worksheets used in responding to the questionnaire and supplemental requests.” In it we also stated that we would “review the computer programs [SKF France] used to identify the sales for reporting and explain the underlying methodology used to compile the home-market sales quantity and value reported in [SKF France's] submissions.”

In addition, the verification outline indicated that, “[i]f your client is not prepared to support or explain a response item at the appropriate time, then we will move on to another topic. If, due to time constraints, returning to that item is not possible, we may consider the item unverified. Furthermore, if information requested for verification is not supplied, or is unverified, pursuant to section 776(a) of the Tariff Act (the Act), we may use facts otherwise available in reaching the applicable determination.”

At verification, however, SKF France was unprepared to segregate sales of Sarma (an affiliated company within the SKF France entity) product by market, class, or kind of merchandise. Since SKF France did not provide the necessary information during the verification in the form and manner we requested, we find it appropriate to use partial facts available under section 776(a)(2) of the Act.

We find it appropriate to apply adverse partial facts available also to SKF France because SKF France did not act to the best of its ability by not providing information we requested. We issued our verification outline to SKF France in a timely manner. SKF France selected Paris as the verification site and notified us only at the verification that the information that we requested was unavailable in Paris but was located at St. Vallier, France. See Verification of SKF France's Ball Bearings and Parts Thereof from France and Sarma's Home-Market and Export Price Sales Data dated March 7, 2003. SKF France explained to us that the requested information at its Sarma facility could not be transported to Paris for the purpose of verification. SKF France had ample opportunity to notify us in advance so we could plan a visit to these two locations for a further verification but it did not do so.

Section 776(b) of the Act provides that the Department may use as adverse facts available information derived from the petition, a final determination in an antidumping investigation, any previous review, or any other information placed on the record. The statute does not provide a clear obligation or preference for relying on a particular source in choosing information to use as adverse facts available, but the Department may use as facts available a final determination in an less-than-fair-value proceeding even if the less-than-fair-value determination is based on the best information available (BIA). See Certain Cut-to-Length Carbon Steel Plate from Sweden: Final Results of Administrative Review, 62 FR 18396, 18402 (April 15, 1997), and Certain Cut-to-Length Carbon Steel Plate from Mexico: Preliminary Results of Antidumping Duty Administrative Review, 63 FR 48181, 48183 (September 9, 1998).

For SKF France, we used the highest rate from a prior segment of the hearing, 66.42 percent, and applied it exclusively to Sarma's U.S. sales as adverse facts available. This rate was calculated for SKF France in the less-than-fair-value investigation. See Antidumping Duty Orders: Ball Bearings, Cylindrical Roller Bearings, Spherical Plain Bearings, and Parts Thereof from France, 54 FR 20902 (May 15, 1989). In this case, we were able to corroborate the 66.42 percent margin. Because section 777(b)(1)(A) of the Act prohibits us from discussing the business proprietary information we used in our corroboration of this rate in this notice, please see the SKF France Final Results Analysis Memorandum dated June 6, 2003, for a complete description of our corroboration methodology.

Other Changes Since the Preliminary Results

Based on our analysis of comments received, we have made revisions that have changed the results for certain firms. We have corrected programming and clerical errors in the preliminary results, where applicable. Any alleged programming or clerical errors about which we or the parties do not agree are discussed in the relevant sections of the Decision Memo, which is accessible on the Web at http://ia.ita.doc.gov/frn/index.html and is on file in the CRU, Room B-099.

Final Results of the Reviews

We determine that the following percentage weighted-average margins on ball bearings exist for the period of May 1, 2001, through April 30, 2002:

Company | Margin (percent)
FRANCE
SNR Roulements | 3.52
SKF | 10.08
GERMANY
FAG | 1.45
Torrington | 70.41
Paul Mueller | 0.19
SKF | 3.38
ITALY
FAG | 2.87
SKF | 5.08
JAPAN
Koyo | 4.98
NTN | 4.51
NPBS | 4.21
Sapporo | 5.97
NSK, Ltd. | 2.68
SINGAPORE
NMB/Pelmec | 1.62

Rescission of the Review in Part

In the Preliminary Results for Japan, we stated our intent to rescind the administrative reviews we initiated of Jiro Okayama, Eisho Trading Co., Ltd., and Phoenix International Corporation (collectively “Japanese trading companies”) with respect to ball bearings from Japan. See 68 FR at 11357-58. We hereby affirm our preliminary findings regarding this matter and we are rescinding the reviews with respect to these Japanese trading companies in these final results.

We are also rescinding the administrative review we initiated of Taisei Industries, Ltd. (Taisei). Since the preliminary results, Taisei has supplied information to the Department supporting its claim that its suppliers had knowledge at the time of sale to Taisei that their ball bearings were destined for exportation to the United States. Subsequently, we find that Taisei is not the proper party to review with respect to the sales in question. Therefore, we are also rescinding the administrative review with respect to sales made by Taisei.

The discussion of issues and comments pertaining to these trading companies is contained in the “Resellers” section of the Decision Memo, which is accessible on the Web at http://ia.ita.doc.gov/frn/index.html and is on file in the CRU, Room B-009.

Revocation of Order in Part

In the Preliminary Results for France, et al, we stated our intent to revoke the order on ball bearings from Germany in part with respect to Paul Mueller. See 68 FR at 6405-06. We find that, because Paul Mueller did not sell ball bearings to the United States in commercial quantities during the first period for which we conducted an administrative review (1998-1999), the regulatory requirement for revocation has not been satisfied. See 19 CFR 351.222(d)(1). Accordingly, we reverse our preliminary intent to revoke the order in part with respect to Paul Mueller and are not revoking the antidumping duty order in part with respect to Paul Mueller in these final results of review.

The discussion of issues and comments pertaining to our decision not to revoke is contained in the “Revocation” section of the Decision Memo, which is accessible on the Web at http://ia.ita.doc.gov/frn/index.html and is on file in the CRU, Room B-009.

Assessment Rate

The Department will determine, and the U.S. Bureau of Customs and Border Protection (Customs), formerly known as the U.S. Customs Service, shall assess, antidumping duties on all appropriate entries. We will issue appropriate assessment instructions directly to Customs within 15 days of publication of these final results of reviews. In accordance with 19 CFR 351.212(b)(1), we have calculated, whenever possible, an exporter/importer-specific assessment rate or value for subject merchandise.

a. Export Price

With respect to export-price (EP) sales, we divided the total dumping margins (calculated as the difference between normal value and the EP) for each exporter's importer/customer by the total number of units the exporter sold to that importer/customer. We will direct Customs to assess the resulting per-unit dollar amount against each unit of merchandise on each of that importer's/customer's entries under the relevant order during the review period.

b. Constructed Export Price

For constructed export-price (CEP) sales (sampled and non-sampled), we divided the total dumping margins for the reviewed sales by the total entered value of those reviewed sales for each importer. We will direct Customs to assess the resulting percentage margin against the entered customs values for the subject merchandise on each of that importer's entries under the relevant order during the review period. See 19 CFR 351.212(b)(1).

Cash-Deposit Requirements

To calculate the cash-deposit rate for each respondent (i.e., each exporter and/or manufacturer included in these reviews), we divided the total dumping margins for each company by the total net value of that company's sales of merchandise during the review period subject to each order.

To derive a single deposit rate for each respondent, we weight-averaged the EP and CEP deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

We will direct Customs to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of ball bearings entered, or withdrawn from warehouse, for consumption on or after the date of publication, as provided by section 751(a)(1) of the Act: (1) The cash-deposit rates for the reviewed companies will be the rates shown above except that, for firms whose weighted-average margins are less than 0.5 percent and, therefore, de minimis, the Department will not require a deposit of estimated antidumping duties; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; and (4) the cash-deposit rate for all other manufacturers or exporters will continue to be the “All Others” rate for the relevant order made effective by the final results of review published on July 26, 1993. See Antifriction Bearings (Other Than Tapered Roller Bearings) and Parts Thereof from France, et al: Final Results of Antidumping Duty Administrative Reviews and Revocation in Part of an Antidumping Duty Order, 58 FR 39729 (July 26, 1993). These “All Others” rates are the “All Others” rates from the relevant LTFV investigation.

These deposits requirements shall remain in effect until publication of the final results of the next administrative reviews.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return of destruction of APO materials or conversion to judicial protective order is hereby requested. Failure to comply with the regulations and the terms of an APO are sanctionable violations.

We are issuing and publishing these determinations in accordance with sections 751(a)(1) and 777(i) of the Act.

Dated: June 9, 2003.
Jeffrey May,
Acting Assistant Secretary for Import Administration.

Appendix

Comments and Responses

1. Model Matching

2. Margin-Calculation Methodology

3. CV Profit

4. Price Adjustments

A. Direct and Indirect Selling Expenses

B. Discounts and Rebates

C. CEP Profit

5. Level of Trade

6. Sample Sales, Prototype Sales, and Sales Outside the Ordinary Course of Trade

7. Movement Expenses

8. Cost Issues

9. Miscellaneous

A. Facts Available

B. Separate Assessment Rates

C. Revocation

D. Arm's-Length Test

E. Resellers

[FR Doc. 03-15148 Filed 6-13-03; 8:45 am]

BILLING CODE 3510-DS-P